Title 3—

The President

Proclamation 10262 of September 24, 2021

National Hunting and Fishing Day, 2021

By the President of the United States of America

A Proclamation

On National Hunting and Fishing Day, we celebrate the time-honored traditions of hunting and fishing and their role in providing people of all ages and backgrounds the opportunity to enjoy the great American outdoors. From the earliest days of our Nation, hunting and fishing have instilled respect for our long-cherished natural resources and American ethic of conservation. Passed on through generations, these beloved pastimes bring families, friends, and neighbors together to bond in the spirit of sportsmanship, cultivate respect for our lands, waters, and wildlife, and provide peaceful sanctuary amid our Nation's natural wonders.

During the COVID-19 pandemic, hunting and fishing have been especially critical in providing a recreational reprieve for many Americans from the stressors of these difficult times. When entertainment venues, stadiums, gyms, and local businesses were closed, hunting and fishing afforded many Americans the opportunity to commune with nature and find some semblance of normalcy. The majestic public lands and waters of our country—and our responsibility to serve as good stewards of the natural resources we have been blessed with—are even more appreciated by those who took to the great outdoors as an outlet during the pandemic. It is one of the reasons the Department of the Interior recently announced the largest expansion of hunting, fishing, and outdoor recreation opportunities on public lands in recent history.

Ensuring that public lands are available to every American for activities like hunting and fishing is central to my Administration's “America the Beautiful” initiative—an ambitious goal to pursue a locally-led and national, voluntary effort to conserve, connect, and restore 30 percent of our lands and waters, by 2030. We will continue to carry out this program together with agricultural and forest landowners; anglers, hunters, and outdoor enthusiasts; Tribal Nations, States, and territories; local officials; and other important partners and stakeholders in order to identify conservation strategies that reflect the priorities of all communities. This initiative is only a starting point in our efforts to protect our environment and conserve our resources for future generations. We will continue to rely on America's sportswomen and men to pass on their love and respect for our lands, waters, and wildlife to our children and grandchildren.

Hunting and fishing also play a large role in funding conservation efforts, for example through fishing licenses and Duck Stamps—works of art that for nearly a century have helped protect habitats for birds and other wildlife. These activities also fuel economic prosperity—especially in rural communities—with more than 50 million Americans hunting and fishing every year, creating over $200 billion in economic activity and supporting over 1.5 million jobs. The continuation of these time-honored traditions will ensure that our lands and waters receive the care and funding they need to stay accessible and magnificent for all Americans. Whether fulfilling a family tradition on opening day of hunting season or a new angler catching their first trout on a restored river, we will ensure that future generations have the same opportunities to take part in these cherished pastimes.

NOW, THEREFORE, I, JOSEPH R. BIDEN JR., President of the United States of America, by virtue of the authority vested in me by the Constitution and the laws of the United States, do hereby proclaim September 25, 2021, as National Hunting and Fishing Day. I call upon all Americans to observe this day with appropriate programs and activities.

IN WITNESS WHEREOF, I have hereunto set my hand this twenty-fourth day of September, in the year of our Lord two thousand twenty-one, and of the Independence of the United States of America the two hundred and forty-sixth.

[FR Doc. 2021-21361

Filed 9-28-21; 11:15 am]

Billing code 3295-F1-P